DEPARTMENT OF HOMELAND SECURITY

[Docket No. CISA-CISA-2025-0040]

Agency Information Collection Activities: 1670-0048: SAFECOM Nationwide Surveys Generic Clearance

AGENCY: Cybersecurity and Infrastructure Security Agency (CISA), Department of Homeland Security (DHS).

ACTION: 60-Day notice and request for comments; This is a renewal of a previously approved information collection. OMB Control Number: 1670-0048.

SUMMARY: DHS CISA Emergency Communications Division (ECD) will submit the following information collection request (ICR) to the Office of Management and Budget (OMB) for review and clearance in accordance with the Paperwork Reduction Act of 1995.

DATES: Comments are encouraged and will be accepted until October 24, 2025. Submissions received after the deadline for receiving comments may not be considered.

ADDRESSES: You may submit comments, identified by docket number CISA-2025-0040 by one of the following methods:

• Federal eRulemaking Portal: http://www.regulations.gov. Please follow the instructions for submitting comments.

Instructions: All submissions received must include the words “Department of Homeland Security” and the docket number for this action. Comments received will be posted without alteration at http://www.regulations.gov, including any personal information provided. Docket: For access to the docket and comments received, please go to www.regulations.gov and enter docket number CISA-2025-0040. Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Antonio Branham, Antonio.Branham@mail.cisa.dhs.gov,

SUPPLEMENTARY INFORMATION: In 2006, Congress passed Public Law 109-295, which included SEC. 671. EMERGENCY COMMUNICATIONS also known as the “21st Century Emergency Communications Act of 2006'. The legislation established the Department of Homeland Security (DHS) Office of Emergency Communications, which was re-designated in 2018 as the Emergency Communications Division (ECD) within the Cybersecurity and Infrastructure Security Agency (CISA), to lead the development and implementation of a comprehensive approach to advancing national interoperable communications capabilities. The following responsibilities were established: 6 U.S.C. 571(c) requires the DHS Secretary through the ECD Assistant Director to: (4) Conduct extensive, nationwide outreach to support and promote the ability of emergency response providers and relevant government officials to continue to communicate in the event of natural disasters, acts of terrorism, and other man-made disasters; (13) develop and update periodically, as appropriate, a National Emergency Communications Plan (NECP) under section 572 of this title; (14) perform such other duties of the Department necessary to support and promote the ability of emergency response providers and relevant government officials to continue to communicate in the event of natural disasters, acts of terrorism, and other man-made disasters; and (15) perform other duties of the Department necessary to achieve the goal of and maintain and enhance interoperable emergency communications capabilities. 6 U.S.C. 572(a) requires the Secretary in cooperation with State, local, and tribal governments, Federal departments and agencies, emergency response providers, and the private sector, develop not later than 180 days after the completion of the baseline assessment under section 573 of this title, and periodically update, NECP.

Lastly, 6 U.S.C. 573 requires the DHS Secretary to conduct an assessment of Federal, State, local, and tribal governments that defines the range of capabilities needed by emergency response providers and relevant government officials, assesses the current available capabilities to meet such communications needs; identify the gaps between such current capabilities and defined requirements; at least every five years. These authorities in addition to DHS responsibilities through Executive Order 13618 in the area of national security/emergency providers' communications, require periodic reexamination of nationwide emergency communications capabilities.

To perform these statutory obligations, CISA seeks renewal of its PRA Generic Clearance to maintain flexibility in implementing surveys that are relevant to the current emergency communications environment. To meet the statutory requirements of 6 U.S.C. 573, ECD conducts the SAFECOM Nationwide Survey (SNS) to assess evolving capability needs and gaps and track progress against policy initiatives, status of strategic plans, and major industry or market shifts affecting the emergency communications capability.

The purpose of the SNS is to gather information to assess available emergency communications capabilities and identify gaps and needs for emergency response providers to effectively communicate during all types of natural or man-made hazards. CISA ECD uses this information to complete a statutorily mandated assessment and share the data with all stakeholders that have a role in emergency communications. In order to ascertain this information, the SNS is comprised of a battery of instruments designed and distributed to emergency response disciplines at the federal, state/territorial, tribal, and local (county and municipal) levels of government, as well as the private sector. Methods of administration (questionnaire or interview) and distribution (online web form distributed via email or print forms distributed by mail) are used as appropriate to meet the needs and preferences of various segments of the target population. The SNS solicits responses regarding issues affecting the emergency communications to determine a jurisdiction's level of communications operability, interoperability, continuity, and security. CISA ECD analyzes the data collected from this general survey to identify major gaps and themes affecting emergency communications across levels of government. This analysis informs the development of supplemental surveys and information collections tailored to specific needs across the emergency response community, as well as future iterations of the Nationwide Baseline Communications Assessment (NCBA), Biennial Progress Report (BPR), National Emergency Communications Plan (NECP), and other products and initiatives that enable ECD to carry out its statutory responsibilities at 6 U.S.C. 571(c).

Findings from the SNS provide invaluable insights that CISA ECD shares with emergency communications partners at all levels of government which assists with: (1) Statewide Communications Interoperability Plan (SCIP) development, (2) Threat and Hazard Identification Risk Analysis (THIRA) development, (3) state-level grant programs and guidance, and (4) funding and resource sharing strategy development.

CISA ECD also conducts supplemental surveys to complete statutorily mandated activities (6 U.S.C. 571(c), 572(a), and 573) and will share the data with relevant emergency communications partners. The SAFECOM supplemental surveys deploy topic-specific or targeted surveys to various emergency response disciplines at the federal, state, territorial, tribal, and local levels of government, as appropriate, as well as the private sector. The instruments solicit responses regarding targeted issues affecting specific segments of the emergency response community. CISA ECD analyzes the data collected from these supplemental surveys to identify changing requirements, mitigate risks, and help further inform the data collected from the SNS.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis: AGENCY: Cybersecurity and Infrastructure Security Agency (CISA), Department of Homeland Security (DHS).

Title: Generic Clearance: SAFECOM Nationwide Surveys Generic Clearance.

OMB Number: 1670-0048.

Frequency: Annually.

Affected Public: State, Local, Tribal, and Territorial Governments.

Number of Respondents: 7,215.

Estimated Time per Respondent: 0.5 hours.

Total Burden Hours: 3,643 hours.

Total Annual Burden Cost: $179,570.66.

Total Annual Cost to Government Cost: $168,515.35.

Robert J. Costello,
Chief Information Officer, Department of Homeland Security, Cybersecurity and Infrastructure Security Agency.

[FR Doc. 2025-16197 Filed 8-22-25; 8:45 am]

BILLING CODE 9111-LF-P